DEPARTMENT OF TRANSPORTATION

National Highway Traffic Safety Administration

[Docket No. NHTSA-2004-17794]

Long Range Strategic Planning

AGENCY: National Highway Traffic Safety Administration (NHTSA), DOT.

ACTION: Notice and request for comment.

SUMMARY: The National Highway Traffic Safety Administration (NHTSA) is currently conducting an environmental scan, in preparing the agency to meet the challenges it faces in the coming years in improving motor vehicle and traffic safety in the United States. This foundational work will assist the agency in shaping its 2005-2010 strategic plan.

This notice invites comments, suggestions and recommendations from all individuals and organizations that have an interest in motor vehicle and highway safety, non-safety programs administered by the agency, and/or other NHTSA activities. Respondents can choose to answer any number of questions proposed in this notice. The agency values any comments received and would also like input on the strategic planning process in general. Please include any elements believed important for NHTSA to consider in shaping its vision and building its 2005-2010 strategic plan.

DATES: Comments must be received no later than August 16, 2004.

ADDRESSES: You may submit comments identified by Long Range Strategic Planning DOT DMS Docket Number (NHTSA-2004-17794) by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

Instructions: All submissions must include the agency name and docket number. It is suggested that commenters limit their responses to ten (10) pages with unlimited attachments. Note that all comments received will be posted without change to http://dms.dot.gov, including any personal information provided.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Jane S. Dion, Director, Office of Strategic and Program Planning, National Highway Traffic Safety Administration, Room 5208, 400 Seventh Street, SW., Washington, DC 20590, telephone: 202-366-1574.

SUPPLEMENTARY INFORMATION: NHTSA was established as the successor to the National Highway Safety Bureau in 1970, to carry out safety programs under the National Traffic and Motor Vehicle Safety Act of 1966 (chapter 301 of title 49, United States Code) and the Highway Safety Act of 1966 (chapter 4 of title 23, United States Code). The agency also administers consumer programs established by the Motor Vehicle Information and Cost Saving Act of 1972 (part C of subtitle VI (chapters 321, 323, 325, 327, 329 and 331) of title 49, United States Code).

NHTSA's mission is to save lives, prevent injuries and reduce traffic-related health care and other economic costs. The agency develops, promotes and implements effective educational, engineering, and enforcement programs aimed at ending preventable tragedies and reducing the economic costs associated with motor vehicle use and highway travel.

As an integral part of the U.S. Department of Transportation (DOT), the agency improves public health and enhances the quality of transportation by helping to make highway travel safer. A multi-disciplinary approach is used that draws upon diverse fields such as epidemiology, engineering, biomechanics, the social sciences, human factors, economics, education, law enforcement and communication science to address one of the most complex and challenging public health problems facing our society.

NHTSA is the national and international leader in collecting and analyzing motor vehicle crash data, and in developing countermeasures relevant to preventing and mitigating vehicle crashes, thereby reducing and preventing resulting fatalities and traumatic injury. The agency regulates motor vehicle and motor vehicle equipment manufacturers through its safety standards and enforcement programs; provides national and international leadership in understanding and assessing the safety impact of advanced technologies; sponsors critical research; spurs progress in harmonizing international safety standards; and conducts innovative projects to improve traffic and motor vehicle safety. All aspects of engineering, education, enforcement and evaluation are incorporated into programs to address the challenges of crash and injury prevention involving people, vehicles, and the roadway environment.

Motor vehicle crashes are responsible for 95 percent of all transportation-related deaths and 99 percent of all transportation-related injuries, and are the leading cause of death for Americans age 2 and every age 4 through 33. The economic costs associated with these crashes also seriously impact the Nation's fiscal health. The cost to our economy of all motor vehicle crashes was approximately $230 billion in 2000, or 2.3 percent of the U.S. gross domestic product. This economic cost includes $33 billion in medical expenses, $61 billion in lost workplace productivity, and $59 billion in total property damage. Alcohol-involved crashes cost over $50 billion, accounting for 22 percent of all crash costs. In 2003, failure to wear safety belts cost $18 billion. Twenty-six percent of overall crash costs are paid by those individuals directly involved in these crashes. The remaining 74 percent is paid by the public through insurance premiums, taxes, and higher health care costs.

Over the last 38 years, the agency has had a solid record of achievement in reducing traffic crash fatalities and resulting injuries. Since 1966, the crash fatality rate has dropped from 5.5 deaths per 100 million vehicles miles of travel (VMT) to a historic low of 1.5 in 2002. Declining fatalities in passenger cars and injuries overall can be attributed to more crashworthy vehicles in the fleet and increases in safety belt use.

Despite the agency's many successes, NHTSA still has much unfinished business. Preliminary crash injury and fatality estimates for 2003 show mixed results. Injuries from motor vehicle crashes declined slightly in 2003, to the lowest levels since such data have been kept. However, fatalities on the nation's highways increased slightly to 43,220 deaths overall from 42,815 in 2002.

To prepare to meet the challenges on the horizon, NHTSA is embarking upon a long range strategic planning initiative. The initiative will have two phases. Phase I begins with this solicitation of comments from individuals and public and private organizations interested in the nation's motor vehicle and highway safety programs, non-safety programs (e.g., fuel economy, vehicle theft and odometer fraud) administered by the agency, and/or other NHTSA activities. Phase I will also include an environmental scan, to collect a broad range of data and information about critical current and future trends expected to impact motor vehicle and highway safety. The information gathered from the completed environmental scan will serve as the foundation for Phase II—NHTSA's strategic plan 2005-2010. For Phase II, information and data generated from Phase I will assist the agency at shaping its future vision, mission and goals. Phase I will serve as the centerpiece by which strategies are developed and incorporated into NHTSA's 2005-2010 strategic plan.

NHTSA requests comments, suggestions and recommendations that will assist the agency in assessing and understanding the potential effects and implications that changes in demographic, economic, environmental, institutional, and technological factors will have on motor vehicle and highway traffic safety.

The following are some of the key issues that the agency would like commenters to address. In addition to general comments, the public is requested to submit documents, studies, or references relevant to the issues. The agency is particularly interested in learning about emerging or potential safety problems and in receiving recommendations for addressing such problems effectively. While the strategic plan NHTSA is developing will cover 2005-2010, the “future” timeframe the agency would like commenters to express their views on and consider is trends up to the year 2020.

A. Future Factors and Issues

(A1) What are the critical highway safety issues facing the nation?

(A2) What will future key demographic and social influences be on highway safety (e.g., novice and older drivers, gender, cultural diversity, geographic distribution, alcohol consumption)?

(A3) In general, how will driving behaviors change in the United States? How will demographic and social factors change driving behaviors and impact highway safety?

(A4) What changes in the auto fleet, including size and mix, will impact highway safety?

(A5) What changes in commercial vehicle use will impact highway safety?

(A6) What international trends and technologies will influence future developments in the American automotive industry?

(A7) What changes in energy and environmental issues will impact public policy and highway safety? How will these changes impact vehicle use?

(A8) What change in the highway or energy distribution infrastructures will either affect or be needed for improved highway safety?

(A9) What changes in auto and medical insurance might affect highway safety?

(A10) What changes in the national, state and local economies will impact public policy and highway safety? Will these changes require modification in Federal funding programs or delivery systems for highway safety?

(A11) How might changes in vehicle theft and odometer fraud impact NHTSA's future program efforts in these areas?

(A12) What are new and emerging areas of automotive safety research that would enable NHTSA and the auto industry to improve motor vehicle safety?

(A13) What additional analytical data need to be collected with respect to motor vehicle and highway safety? How might data and information be combined for more effective and valuable results? How might these data be collected, linked, analyzed and made available in a more efficient and cost-effective manner?

(A14) How can crash avoidance data be gathered?

(A15) What role will public education and consumer information play in the future of highway safety? What other cost effective tools should NHTSA use to promote motor vehicle and highway safety programs?

(A16) What changes in the area of Federal, state and local legislation are appropriate and how might that legislation affect traffic safety in the future?

(A17) How might homeland security affect traffic safety in the future?

B. Technology

(B1) How will vehicle-related technologies impact the future of motor vehicle and highway safety?

(B2) What future technologies should be researched and encouraged to enhance highway safety?

(B3) What changes in roadway design and infrastructure are needed? How might these changes impact motor vehicle and highway safety?

(B4) What technological changes are necessary in other modes of passenger and freight transportation to positively impact motor vehicle and highway safety?

(B5) What changes in medical technology and emergency medical services will impact motor vehicle and highway safety and health outcomes?

(B6) What changes do you envision in automation, information management and workplace alternatives (e.g., telecommuting)? How will these activities impact highway safety and commuting and travel behaviors?

(B7) What changes in law enforcement practices and technologies might impact highway safety?

C. Institutional Relationships

(C1) How do you and/or your organization (include organization's name) interact with NHTSA? Please explain the dynamics of this relationship.

(C2) How could NHTSA improve its relationship with your organization and with other organizations and institutions?

D. NHTSA's Role and Mission

(D1) In your view, should there be major changes in NHTSA's role/mission in the future?

(D2) What are NHTSA's strengths? Weaknesses?

(D3) How can NHTSA have a greater impact in the reduction of injury and loss of life on the nation's highways?

(D4) What is NHTSA doing well? Not so well? How can NHTSA improve the way it does business? Please identify possible improvements or ideas for doing better.

How Do I Prepare and Submit Comments?

Your comments must be written and in English. To ensure that your comments are correctly filed in the Docket, please include the Docket number of this document (Long Range Strategic Planning, NHTSA-2004-17794) in your comments.

Please send two paper copies of your comments to Docket Management or submit them electronically. The mailing address is Docket Management Facility; U.S. Department of Transportation, 400 Seventh Street, SW., Nassif Building, Room PL-401, Washington, DC 20590-001. If you submit your comments electronically, log onto the Docket Management System Web site at http://dms.dot.gov and click on “Help & Information” or “Help/Info” to obtain instructions.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR Part 512).

In addition, send two copies from which you have deleted the claimed confidential business information to Docket Management Facility; U.S. Department of Transportation, 400 Seventh Street, SW., Nassif Building, Room PL-401, Washington, DC 20590-001.

Will the Agency Consider Late Comments?

NHTSA will consider all comments that Docket Management receives before the close of business on the comment closing date indicated above under DATES. To the extent possible, we will also consider comments that Docket Management receives after that date.

Please note that even after the comment closing date, we will continue to file relevant information in the Docket as it becomes available. Some people may submit late comments. Accordingly, we recommend that you periodically check the Docket for new material.

How Can I Read the Comments Submitted by Other People?

You may read the comments by visiting Docket Management in person at Room PL-401, 400 Seventh Street, SW., Washington, DC from 10 a.m. to 5 p.m., Monday through Friday.

You may also see the comments on the Internet by taking the following steps:

• Go to the Docket Management System (DMS) Web page of the Department of Transportation (http://dms.dot.gov).

• On that page, click on “search.”

• On the next page ((http://dms.dot.gov/search/) type in the five-digit Docket number shown at the beginning of this document (Long Range Strategic Planning, NHTSA-2004-17794). Click on “search.”

• On the next page, which contains Docket summary information for the Docket you selected, click on the desired comments. You may also download the comments.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: 49 U.S.C. 30111, 30117, 30168; delegation of authority at 49 CFR 1.50 and 501.8.

Noble N. Bowie,
Associate Administrator for Planning, Evaluation & Budget.

[FR Doc. 04-14761 Filed 6-29-04; 8:45 am]

BILLING CODE 4910-59-P